DEPARTMENT OF THE INTERIOR

Bureau of Land Management

[LLNM910000 L10200000.PH0000]

Notice Reopening the Call for Nominations for the New Mexico Resource Advisory Councils

AGENCY: Bureau of Land Management, Interior.

ACTION: Notice.

SUMMARY: The purpose of this notice is to reopen the nomination period for the Bureau of Land Management's (BLM) New Mexico Resource Advisory Councils (RAC). The RACs provide advice and recommendations to the BLM on land use planning and management of the public lands within their geographic areas.

DATE: All nominations must be received no later than November 26, 2010.

ADDRESSES: See SUPPLEMENTARY INFORMATION for the address of BLM offices accepting nominations.

FOR FURTHER INFORMATION CONTACT: Allison Sandoval, Bureau of Land Management, Correspondence, International, and Advisory Committee Office, 1849 C Street, NW., MS-401 LS, Washington, DC 20240; (202) 912-7434.

SUPPLEMENTARY INFORMATION: The Federal Land Policy and Management Act of 1976 (FLPMA) (43 U.S.C. 1739) directs the Secretary of the Interior (Secretary) to involve the public in planning and issues related to management of lands administered by the BLM. Section 309 of FLPMA directs the Secretary to establish 10- to 15-member citizen-based advisory councils that are consistent with the Federal Advisory Committee Act (FACA). The rules governing RACs are found at 43 CFR subpart 1784. As required by FACA, RAC membership must be balanced and representative of the various interests concerned with the management of the public lands. These include three categories:

Category One—Holders of Federal grazing permits and representatives of organizations associated with energy and mineral development, timber industry, transportation or rights-of-way, developed outdoor recreation, off-highway vehicle use, and commercial recreation;

Category Two—Representatives of nationally or regionally recognized environmental organizations, archaeological and historic organizations, dispersed recreation activities, and wild horse and burro organizations; and

Category Three—Representatives of state, county, or local elected office; representatives and employees of a state agency responsible for management of natural resources; representatives of Indian tribes within or adjacent to the area for which the council is organized; representatives of academia who are employed in natural sciences; and the public-at-large.

Individuals may nominate themselves or others. Nominees must be residents of the BLM district in which the RAC has jurisdiction. The BLM will evaluate nominees based on a variety of factors, including training, experience, and knowledge of the geographical area of the RAC. Nominees should demonstrate a commitment to collaborative resource decisionmaking. Current administration policy discourages individuals who are currently federally registered lobbyists from serving on FACA and non-FACA boards, committees, or councils. The following must accompany all nominations:

—Letters of reference from represented interests or organizations;

—A completed background information nomination form; and

—Any other information that addresses the nominee's qualifications.

The BLM's New Mexico State Office will issue a press release simultaneously with this notice, providing additional information for submitting nominations, specifying the number and categories of positions available for each RAC. The terms of the appointments range from 1 to 3 years in order to stagger future expirations. If you have already submitted your nomination materials for 2010, you do not need to resubmit them. Nominations for RACs should be sent to the appropriate BLM offices listed below:

Albuquerque RAC

Edwin Singleton, Albuquerque District Office, BLM, 435 Montano NE, Albuquerque, New Mexico 87107, (505) 761-8700.

Farmington RAC

Dave Evans, Farmington District Office, BLM, 1235 La Plata Highway, Farmington, New Mexico 87401, (505) 599-8900.

Las Cruces RAC

Bill Childress, Las Cruces District Office, BLM, 1800 Marquess Street, Las Cruces, New Mexico 88005, (575) 525-4300.

Pecos RAC

Doug Burger, Pecos District Office, BLM, 2909 West Second Street, Roswell, New Mexico 88201, (575) 627-0272.

Certification Statement: I hereby certify that the BLM's New Mexico RACs are necessary and in the public interest in connection with the Secretary's responsibilities to manage the lands, resources, and facilities administered by the BLM.

Linda S.C. Rundell,
State Director.

[FR Doc. 2010-27029 Filed 10-25-10; 8:45 am]

BILLING CODE 4310-FB-P